DEPARTMENT OF THE INTERIOR

Fish and Wildlife Service

50 CFR Part 20

[FWS-R9-MB-2009-0124]

[91200-1231-9BPP-L2]

RIN 1018-AW31

Migratory Bird Hunting; Migratory Bird Hunting Regulations on Certain Federal Indian Reservations and Ceded Lands for the 2009-10 Late Season

AGENCY: Fish and Wildlife Service, Interior.

ACTION: Final rule; correcting amendments.

SUMMARY: On September 2 and 25, 2009, we, the U.S. Fish and Wildlife Service (Service), published two final rules that established special early- and late-season migratory bird hunting regulations for certain tribes on Federal Indian reservations, off-reservation trust lands, and ceded lands. In error, the second of these rules omitted from the regulatory text pertaining to late-season hunting by the White Mountain Apache Tribe the dates and bag limits for duck and Canada goose. This document corrects those errors.

DATES: This rule takes effect on October 28, 2009.

FOR FURTHER INFORMATION CONTACT: Ron W. Kokel, Division of Migratory Bird Management, U.S. Fish and Wildlife Service (703/358-1967), or Tina Chouinard, Division of Migratory Bird Management, U.S. Fish and Wildlife Service (731/432-0981).

SUPPLEMENTARY INFORMATION: On September 2 and 25, 2009, we published final rules that established special early- and late-season migratory bird hunting regulations for certain tribes on Federal Indian reservations, off-reservation trust lands, and ceded lands. These rules responded to tribal requests for Service recognition of tribal authority to regulate hunting under established guidelines. These rules allowed the establishment of season dates and bag limits and, thus, harvest at levels compatible with populations and habitat conditions. The early-season rule, which published September 2, 2009 (74 FR 45343), with an effective date of September 1, 2009, correctly included band-tailed pigeon and mourning dove season dates and bag limits in its regulatory text for paragraph (w) of 50 CFR 20.110, which applies to hunters on Fort Apache Indian Reservation lands in Whiteriver, Arizona. However, the late-season rule, which published and became effective on September 25, 2009 (74 FR 49292), did not properly revise paragraph (w) to include subsequently determined duck and Canada goose season dates and bag limits. This correction revises paragraph (w) to include duck and Canada goose season dates and bag limits for the White Mountain Apache Tribe. The substance of the regulations remains unchanged.

Administrative Procedure Act

We find good cause to waive notice and comment on this correction, pursuant to 5 U.S.C. 553(b)(3)(B), and the 30-day delay in effective date pursuant to 5 U.S.C. 553(d). Notice and comment are unnecessary because this rule merely corrects the regulations. The substance of the regulations remains unchanged. Therefore, this correction is being published as a final regulation and is effective as shown under DATES.

List of Subjects in 50 CFR Part 20

Exports, Hunting, Imports, Reporting and recordkeeping requirements, Transportation, Wildlife.

Accordingly, part 20, subchapter B, chapter I of title 50 of the Code of Federal Regulations is amended as follows:

PART 20—[AMENDED]

1. The authority citation for part 20 continues to read as follows:

Authority: Migratory Bird Treaty Act, 40 Stat. 755, 16 U.S.C. 703-712; Fish and Wildlife Act of 1956, 16 U.S.C. 742a-j; Pub. L. 106-108, 113 Stat. 1491, Note Following 16 U.S.C. 703.

(Note: The following hunting regulations provided for by 50 CFR 20.110 will not appear in the Code of Federal Regulations because of their seasonal nature).

2. Amend § 20.110 by revising paragraph (w) to read as follows:

§ 20.110 Seasons, limits, and other regulations for certain Federal Indian reservations, Indian Territory, and ceded lands.

(w) White Mountain Apache Tribe, Fort Apache Indian Reservation, Whiteriver, Arizona (Tribal Members and Nontribal Hunters).

Band-tailed Pigeons (Wildlife Management Unit 10 and areas south of Y-70 and Y-10 in Wildlife Management Unit 7, only)

Season Dates: Open September 1 through September 15, 2009.

Daily Bag and Possession Limits: Three and six pigeons, respectively.

Mourning Doves (Wildlife Management Unit 10 and areas south of Y-70 and Y-10 in Wildlife Management Unit 7, only)

Season Dates: Open September 1 through September 15, 2009.

Daily Bag and Possession Limits: 10 and 20 doves, respectively.

Ducks

Scaup Season Dates: Open October 10, 2009, through December 6, 2009.

Season Dates: Open October 10, 2009, through January 24, 2010.

Daily Bag Limit: Seven ducks, including no more than two hen mallards, three scaup (when the season is open), two redheads, one canvasback, and two pintail.

Canada Geese

Season Dates: Open October 10, 2009, through January 24, 2010.

Daily Bag Limit: Three Canada geese per day.

General Conditions: All nontribal hunters hunting band-tailed pigeons and mourning doves on Reservation lands must have in their possession a valid White Mountain Apache Daily or Yearly Small Game Permit. In addition to a small game permit, all nontribal hunters hunting band-tailed pigeons must have in their possession a White Mountain Special Band-tailed Pigeon Permit. Other special regulations established by the White Mountain Apache Tribe apply on the reservation. Possession limits are twice the daily bag limits. Tribal and nontribal hunters will comply with all basic Federal migratory bird hunting regulations in 50 CFR Part 20 regarding shooting hours and manner of taking.

Dated: October 21, 2009
Sara Prigan,
Federal Register Liaison.

[FR Doc. E9-25932 Filed 10-27-09; 8:45 am]

BILLING CODE 4310-55-S